DEPARTMENT OF JUSTICE

Antitrust Division

Notice Pursuant to the National Cooperative Research and Production Act of 1993—Enterprise Computer Telephony Forum

Notice is hereby given that, on June 12, 2000, pursuant to Section 6(a) of the National Cooperative Research and Production Act of 1993, 15 U.S.C. 4301 et seq. (“the Act”), Enterprise Computer Telephony Forum (“ECTF”) has filed written notifications simultaneously with the Attorney General and the Federal Trade Commission disclosing changes in its membership status. The notifications were filed for the purpose of extending the Act's provisions limiting the recovery of antitrust plaintiffs to actual damages under specified circumstances. Specifically, Dialogic, an Intel company, Parsippany, NJ; Locus Dialogue, Montreal, Quebec, Canada; Comsys International by, Zeist, The Netherlands; Eicon Technology Corporation, Montreal, Quebec, Canada; Group 2000 Nederland BV, Almelo, The Netherlands; ipGen, Inc., Dallas, TX; Lasat Networks, Bagsvaerd, Denmark; Necsy SPS, Padova, Italy; NetPhone, Marlborough, MA; NovaVox AG, Zuerich, Switzerland; and Temic, Stuttgart, Germany, have been added as parties to this venture. Also, Amteva Technologies, Glen Allen, VA; CSS TrexCom, Inc., Norcross, GA; Cisco Systems, Manchester, NH; Dialogic Corporation, Parsippany, NJ; Excel Switching Corporation, Hyannis, MA; Microsoft Corporation, Redmond, WA; Nokia Networks, Helsinki, Finland; Nortel Networks, Verdun, Quebec, Canada; SI Logic Limited, Aldermaston, England, United Kingdom; Analogic Corporation, Peabody, MA; Ariel Corporation, Carnbury, NJ; Artesyn Communications Products, Inc., Madison, WI; Bell Actimedia, Scarborough, Ontario, Canada; BST Communication Technology, Ltd., Guan Zhou, Peoples Republic of China; Comverse Network Systems, Andover, MA; Daimler-Benz Aerospace, Stuttgart, Germany; De Te We Kommunications, Berlin, Germany; ERNI Components, Inc., Chester, VA; E.T.R.I, Taejon, Republic of Korea; Executone, Milford, CT; Force Computers, San Jose, CA; Frequentis Nachrichtentechnik Ges.m.b.H, Vienna, Austria; Global Communications Systems Research, Alexandria, VA; Hewlett Packard Company, Cupertino, CA; Intervoice, Dallas, TX; Marconi Communications, Coventry, England, United Kingdom; Mitsubishi Electronic Corporation, Kanagawa, Japan; Periphonics Corporation, Bohemia, NY; Sonetech, Inc., Sterling, VA; Syntellect, Inc., Phoenix, AZ; Teloquent Communications, Billerica, MA; and Xerox Coporation, Palo Alto, CA, have been dropped as parties to this venture.

No other changes have been made in either the membership or planned activity of the group research project. Membership in this group research project remains open, and ECTF intends to file additional written notifications disclosing all changes in membership.

On February 20, 1996, ECTF filed its original notification pursuant to Section 6(a) of the Act. The Department of Justice published a notice in the Federal Register pursuant to Section 6(b) of the Act on May 13, 1996 (61 FR 22074).

The last notification was filed with the Department on January 6, 2000. A notice was published in the Federal Register on July 11, 2000 (65 FR 42725).

Constance K. Robinson,
Director of Operations Antitrust Division.

[FR Doc. 00-25307 Filed 10-2-00; 8:45 am]

BILLING CODE 4410-11-M